NATIONAL AERONAUTICS AND SPACE ADMINISTRATION

[Notice 00-126]

NASA Advisory Council (NAC), Aero-Space Technology Advisory Committee (ASTAC); Meeting

AGENCY: National Aeronautics and Space Administration.

ACTION: Notice of meeting.

SUMMARY: In accordance with the Federal Advisory Committee Act, Pub. L. 92-463, as amended, the National Aeronautics and Space Administration announces a forthcoming meeting of the NASA Advisory Council, Aero-Space Technology Advisory Committee.

DATES: Tuesday, November 28, 2000, 8:30 a.m. to 5:00 p.m.; and Wednesday, November 29, 2000, 8 a.m. to 12:00 Noon.

ADDRESSES: National Aeronautics and Space Administration Room 6H46, 300 E Street, SW., Washington, DC 20546.

FOR FURTHER INFORMATION CONTACT: Ms. Mary-Ellen McGrath, Office of Aerospace Technology, National Aeronautics and Space Administration, Washington, DC 20546 (202/358-4729).

SUPPLEMENTARY INFORMATION: The meeting will be open to the public up to the seating capacity of the room. The agenda for the meeting is as follows:

—Status of Aerospace Technology Programs

—Small Aircraft Transportation System (SATs) Report

—Status of Icing Workshop

—2nd, 3rd, and 4th Generation Reusable Launch Vehicles (RLVs)

—Government Performance Results Act (GPRA) Briefings

—Research Test Pilot Issues and Concerns

—Subcommittee Reports

It is imperative that the meeting be held on these dates to accommodate the scheduling priorities of the key participants.

Dated: October 16, 2000.
Beth M. McCormick,
Advisory Committee Management Officer, National Aeronautics and Space Administration.

[FR Doc. 00-26930 Filed 10-18-00; 8:45 am]

BILLING CODE 7510-01-P